ENVIRONMENTAL PROTECTION AGENCY

[FRL-8729-01-OMS]

Privacy Act of 1974; System of Records

AGENCY: Office of the Chief Financial Officer (OCFO), Environmental Protection Agency (EPA).

ACTION: Notice of a modified system of records.

SUMMARY: The U.S. Environmental Protection Agency's (EPA) Office of the Chief Financial Officer (OCFO), Office of Technology Solutions, is giving notice that it proposes to modify a system of records pursuant to the provisions of the Privacy Act of 1974. EPA is making updates to its system of records, PeoplePlus, EPA-1 and is modifying this system of records notice to reflect those updates. EPA's Office of Human Resources (OHR) previously used the EPA-1 PeoplePlus system to administer several human resources functions, including time and attendance, payroll, workforce transformation, and entrance on duty system. The PeoplePlus system will now only be used for time and attendance, and EPA's OCFO will now manage the system.

DATES: Persons wishing to comment on this system of records notice must do so by October 7, 2021. New routine uses for this system of records will be effective October 7, 2021.

ADDRESSES: Submit your comments, identified by Docket ID No. EPA-HQ-OEI-2014-0014, by one of the following methods:

Federal eRulemaking Portal: https://www.regulations.gov. Follow the online instructions for submitting comments.

Email: docket_oms@epa.gov. Include the Docket ID number in the subject line of the message.

Fax: 202-566-1752.

Mail: OMS Docket, Environmental Protection Agency, Mail Code: 2822T, 1200 Pennsylvania Ave. NW, Washington, DC 20460.

Hand Delivery: OMS Docket, EPA/D.C., WJC West Building, Room 3334, 1301 Constitution Ave. NW, Washington, DC 20460. Such deliveries are only accepted during the Docket's normal hours of operation, and special arrangements should be made for deliveries of boxed information.

Instructions: Direct your comments to Docket ID No. EPA-HQ-OEI-2014-0014. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/D.C., WJC West Building, Room 3334, 1301 Constitution Ave. NW, Washington. DC 20460. The Public Reading Room is normally open from 8:30 a.m. to 4:30 p.m., Monday through Friday excluding legal holidays. The telephone number for the Public Reading Room is (202) 566-1744, and the telephone number for the OMS Docket is (202) 566-1752.

Temporary Hours During Covid-19

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes.

Hand deliveries and couriers may be received by scheduled appointment only. For further information on EPA Docket Center services and the current status, please visit us online at https://www.epa.gov/dockets.

FOR FURTHER INFORMATION CONTACT: Michael Clanton, Director, Office of Technology Solutions; 1200 Pennsylvania Avenue NW, Mail Code 2731R, Washington, DC 20460; email address: Clanton.Michael@epa.gov; telephone number: 202 564-1084.

SUPPLEMENTARY INFORMATION: EPA's OHR has been using the PeoplePlus system to administer payroll, HR processes, and time and attendance.

EPA is removing the following systems/functions from the PeoplePlus system: Payroll (Federal Personnel Payroll System), Workforce Transformation, and Tracking System and Entrance on Duty System (WTTS/EODS)—web-based Human Resources Management Suite (HRMS), and Oracle's Business Intelligence Enterprise Edition (OBIEE). Specifically, the Department of the Interior, Interior Business Center will be hosting the systems/functions.

PeoplePlus will continue to administer EPA's time and attendance, and EPA is retaining those provisions of the EPA-1 SORN for these functions. The information maintained in PeoplePlus's time and attendance system is not being modified and the portions of the EPA-1 SORN not modified here remain unchanged.

The system manager, authority for maintenance of the system, purpose of the system, categories of records in the system, record source categories, routine uses, and policy and practices for storage and retrieval are being modified to reflect the updated usage and collection.

SYSTEM NAME AND NUMBER:

PeoplePlus; EPA-1.

SYSTEM LOCATION:

U.S. Environmental Protection Agency, National Computer Center (NCC), 109 T.W. Alexander Drive, Durham, NC 27711.

SYSTEM MANAGER(S):

Michael Clanton, Director, Office of Technology Solutions; 1200 Pennsylvania Avenue NW, Mail Code 2731R, Washington, DC 20460; email address: Clanton.Michael@epa.gov; telephone number: 202 564-1084.

AUTHORITY FOR MAINTENANCE OF THE SYSTEM:

5 U.S.C. 5101 et seq.; 5 U.S.C. 5501 et seq.; 5 U.S.C. 5525 et seq.; 5 U.S.C. 5701 et seq.; 5 U.S.C. 6301 et seq.; 31 U.S.C. 3512; Executive Order 9397 (Nov. 22, 1943); 5 U.S.C. 6362.

PURPOSE(S) OF THE SYSTEM:

As revised herein, PeoplePlus administers EPA's time and attendance by allowing EPA federal employees to document their time and attendance, including assigning time reporting and work codes. This time and attendance information is exchanged with EPA's payroll provider allowing for the processing of EPA employee payroll. PeoplePlus also allows EPA employees to track, request, and cancel various absence forms, including sick leave, annual leave, administrative leave, and time off awards.

CATEGORIES OF INDIVIDUALS COVERED BY THE SYSTEM:

Current and former EPA employees.

CATEGORIES OF RECORDS IN THE SYSTEM:

PeoplePlus contains general EPA employee time and attendance information. This includes elements (Hours/Time Reporting Code/Work Code) associated with bi-weekly time and attendance and elements (Start-End Dates/Leave Category/Absence Type/Duration) related to submitting absence requests for various types of leave. PeoplePlus contains employee information for payroll processing, including: Names, SSNs, EINs, DOBs, Addresses, Work Telephone #s, and Employee IDs.

RECORD SOURCE CATEGORIES:

EPA's payroll provider, the individual on whom the record is maintained, and Agency officials such as managers and supervisors.

ROUTINE USES OF RECORDS MAINTAINED IN THE SYSTEM, INCLUDING CATEGORIES OF USERS AND PURPOSES OF SUCH USES:

The routine uses below are both related to and compatible with the original purpose for which the information was collected. The following routine uses apply to this system:

A. Disclosure for Law Enforcement Purposes: Information may be disclosed to the appropriate Federal, State, local, tribal, or foreign agency responsible for investigating, prosecuting, enforcing, or implementing a statute, rule, regulation, or order, if the information is relevant to a violation or potential violation of civil or criminal law or regulation within the jurisdiction of the receiving entity.

B. Disclosure Incident to Requesting Information: Information may be disclosed to any source from which additional information is requested (to the extent necessary to identify the individual, inform the source of the purpose of the request, and to identify the type of information requested,) when necessary to obtain information relevant to an agency decision concerning retention of an employee or other personnel action (other than hiring,) retention of a security clearance, the letting of a contract, or the issuance or retention of a grant, or other benefit.

C. Disclosure to Requesting Agency: Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

D. Disclosure to Office of Management and Budget: Information may be disclosed to the Office of Management and Budget at any stage in the legislative coordination and clearance process in connection with private relief legislation as set forth in OMB Circular No. A-19.

E. Disclosure to Congressional Offices: Information may be disclosed to a congressional office from the record of an individual in response to an inquiry from the congressional office made at the request of the individual.

F. Disclosure to Department of Justice: Information may be disclosed to the Department of Justice, or in a proceeding before a court, adjudicative body, or other administrative body before which the Agency is authorized to appear, when:

1. The Agency, or any component thereof;

2. Any employee of the Agency in his or her official capacity;

3. Any employee of the Agency in his or her individual capacity where the Department of Justice or the Agency have agreed to represent the employee; or

4. The United States, if the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected.

G. Disclosure to the National Archives: Information may be disclosed to the National Archives and Records Administration in records management inspections.

H. Disclosure to Contractors, Grantees, and Others: Information may be disclosed to contractors, grantees, consultants, or volunteers performing or working on a contract, service, grant, cooperative agreement, job, or other activity for the Agency and who have a need to have access to the information in the performance of their duties or activities for the Agency. When appropriate, recipients will be required to comply with the requirements of the Privacy Act of 1974 as provided in 5 U.S.C. 552a(m).

I. Disclosures for Administrative Claims, Complaints and Appeals: Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

J. Disclosure to the Office of Personnel Management: Information from this system of records may be disclosed to the Office of Personnel Management pursuant to that agency's responsibility for evaluation and oversight of Federal personnel management.

K. Disclosure in Connection With Litigation: Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

The two routine uses below (L and M) are required by OMB Memorandum M-17-12.

L. Disclosure to Persons or Entities in Response to an Actual or Suspected Breach of Personally Identifiable Information: To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

M. Disclosure to Assist Another Agency in Its Efforts to Respond to a Breach of Personally Identifiable Information: To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

N. Disclosure to EPA's Payroll Processing Entity: To EPA's current payroll provider to process EPA's payroll.

POLICIES AND PRACTICES FOR STORAGE OF RECORDS:

These records are maintained electronically on servers located at EPA, NCC.

POLICIES AND PRACTICES FOR RETRIEVAL OF RECORDS:

Records are retrieved by the employee identification number and/or employee network ID.

POLICIES AND PRACTICES FOR RETENTION AND DISPOSAL OF RECORDS:

The records contained in this system of records are covered by EPA record schedule 300 for purposes of retention and disposal. Records are maintained for 3 years.

ADMINISTRATIVE, TECHNICAL, AND PHYSICAL SAFEGUARDS:

Security controls used to protect personally identifiable information (PII) in PeoplePlus are commensurate with those required for an information system rated MODERATE for confidentiality, integrity, and availability, as prescribed in National Institute of Standards and Technology (NIST) Special Publication, 800-53, “Security and Privacy Controls for Federal Information Systems and Organizations,” Revision 5.

1. Administrative Safeguards: PeoplePlus follows procedures set out by NIST 800-53 and EPA's Chief Information Officer (CIO) Security Procedures including that EPA personnel are required to complete annual agency Information Security and Privacy training. EPA personnel are instructed to lock their computers when they leave their desks.

2. Technical Safeguards: Computer records are maintained in a secure password-protected environment. Access to computer records is limited to those who have a need to know. Permission level assignments allow users access only to those functions for which they are authorized. Data stored on the server is encrypted. Backups will be maintained at a disaster recovery site.

3. Physical Safeguards: All servers are maintained in secure, access-controlled areas or buildings.

RECORD ACCESS PROCEDURES:

Individuals seeking access to information in this system of records about themselves are required to provide adequate identification (e.g., driver's license, military identification card, employee badge, or identification card). Additional identity verification procedures may be required, as warranted. Requests must meet the requirements of EPA regulations that implement the Privacy Act of 1974, at 40 CFR part 16.

CONTESTING RECORDS PROCEDURES:

Requests for correction or amendment must identify the record to be changed and the corrective action sought. Complete EPA Privacy Act procedures are described in EPA's Privacy Act regulations at 40 CFR part 16.

NOTIFICATION PROCEDURE:

Any individual who wants to know whether this system of records contains a record about him or her should make a written request to the EPA, Attn: Agency Privacy Officer, MC 2831T, 1200 Pennsylvania Ave. NW, Washington, DC 20460, privacy@epa.gov.

EXEMPTIONS PROMULGATED FOR THE SYSTEM:

None.

HISTORY:

EPA-1, PeoplePlus previously issued SORN modifications published in the Federal Register on June 5, 2014 (79 FR 32543), July 9, 2007 (72 FR 37217-37220), October 10, 2003 (68 FR 58670), and February 22, 2002 (67 FR 8246).

Vaughn Noga,
Senior Agency Official for Privacy.

[FR Doc. 2021-19311 Filed 9-3-21; 8:45 am]

BILLING CODE 6560-50-P